DEPARTMENT OF JUSTICE

[OLP Docket No. 168]

Supplemental Information Regarding Arizona Capital Counsel Mechanism

AGENCY: Department of Justice.

ACTION: Notice.

SUMMARY: This notice advises the public that the State of Arizona has provided additional information about its capital counsel mechanism, and solicits public comment on that supplemental information.

DATES: Written and electronic comments must be submitted on or before January 7, 2019. Comments received by mail will be considered timely if they are postmarked on or before that date. The electronic Federal Docket Management System (FDMS) will accept comments until Midnight Eastern Time at the end of that day.

ADDRESSES: To ensure proper handling of comments, please reference “Docket No. OLP 168” on all electronic and written correspondence. The Department encourages that all comments be submitted electronically through http://www.regulations.gov using the electronic comment form provided on that site. Paper comments that duplicate the electronic submission should not be submitted. Individuals who wish to submit written comments may send those to the contact listed in the FOR FURTHER INFORMATION CONTACT section immediately below.

FOR FURTHER INFORMATION CONTACT: Laurence Rothenberg, Deputy Assistant Attorney General, Office of Legal Policy, U.S. Department of Justice, 950 Pennsylvania Avenue NW, Washington, DC 20530; telephone (202) 532-4465.

SUPPLEMENTARY INFORMATION: Chapter 154 of title 28, United States Code, provides special procedures for federal habeas corpus review of cases brought by prisoners in State custody who are subject to capital sentences. The special procedures may be available to a State only if the Attorney General of the United States has certified that the State has established a qualifying mechanism for the appointment, compensation, and payment of reasonable litigation expenses of competent counsel in State postconviction proceedings for indigent capital prisoners. 28 U.S.C. 2261, 2265; 28 CFR part 26.

On November 16, 2017, the Department of Justice, Office of Legal Policy published a notice in the Federal Register, 82 FR 53529, advising the public of Arizona's request for certification, dated April 18, 2013, and requesting public comment regarding that request. The Department also sent a letter to Arizona, dated November 16, 2017, asking whether the State wished to supplement or update its request. Arizona responded in a letter dated November 27, 2017. The Department, on December 27, 2017, published a second notice in the Federal Register, 82 FR 61329, which advised the public that the State had submitted additional information and provided additional time for public comment.

Following the receipt of public comments, the Department sent a letter dated June 29, 2018, to Arizona requesting that the State provide answers to a number of questions that had arisen during the Department's review of the comments, and inviting response to any other matters raised in the comments. This notice advises the public that the State of Arizona submitted additional information in response, in a letter dated October 16, 2018, and solicits public comment on that supplemental information. The correspondence with Arizona, including its letter of October 16, 2018, may be viewed at https://www.justice.gov/olp/pending-requests-final-decisions.

Following the Department's transmission of its letter of June 29, 2018 to Arizona, and again following Arizona's transmission of its responsive letter of October 16, 2018 to the Department, a commenter on Arizona's request for certification requested that the Department provide an opportunity for additional public comment to allow response to the new information in Arizona's letter. This notice provides an opportunity for such public comment.

Dated: November 13, 2018.
Beth A. Williams,
Assistant Attorney General.

[FR Doc. 2018-25333 Filed 11-20-18; 8:45 am]

BILLING CODE 4410-BB-P